DEPARTMENT OF HEALTH AND HUMAN SERVICES

Administration for Children and Families

45 CFR Part 1351

RIN 0970-AC43

Runaway and Homeless Youth

AGENCY: Family and Youth Services Bureau (FYSB), Administration on Children, Youth and Families (ACYF), Administration for Children and Families (ACF), Department of Health and Human Services (HHS).

ACTION: Notice of proposed rulemaking.

SUMMARY: This notice of proposed rulemaking would establish program performance standards for Runaway and Homeless Youth grantees providing services to eligible youth and their families. It also proposes revisions to reflect statutory changes, and to update procedures for soliciting and awarding grants. The proposed performance standards would be newly specified in regulation, but would build on standards already used by the program as priorities in funding opportunity solicitations and awards, in technical assistance, and in reporting requirements.

DATES: In order to be considered, comments on this proposed rule must be received on or before June 13, 2014.

ADDRESSES: Interested persons are invited to submit comments on this proposed rule either (1) electronically via the Internet at http://www.regulations.gov or (2) by mail to the Associate Commissioner, Family and Youth Services Bureau, Administration for Children and Families, 1250 Maryland Ave. SW., Washington, DC 20024. If you submit a comment, please include your name and address, identify the docket number for this rulemaking, indicate the specific section of this document to which each comment applies, and give the reason for each comment. You may submit your comments and material to the government-wide e-rulemaking site above, or to the address above, but please submit your comments by only one means.

FOR FURTHER INFORMATION CONTACT: Resa F. Matthew, Director, Division of Adolescent Development and Support, Family and Youth Services Bureau, 1-800-865-0965, ncfy@acf.hhs.gov. Deaf and hearing impaired individuals may call the Federal Dual Party Relay Service at 1-800-877-8339 between 8:30 a.m. and 7 p.m. Eastern time.

SUPPLEMENTARY INFORMATION:

I. Statutory Authority

This proposed regulation is published under the authority granted to the Secretary of Health and Human Services by the Runaway and Homeless Youth Act (Title III of the Juvenile Justice and Delinquency Prevention Act of 1974), 42 U.S.C. 5701 et seq. as amended by the Reconnecting Homeless Youth Act of 2008 (Pub. L. 110-378).

II. Comment Procedures and Organization of NPRM

Pursuant to the Administrative Procedures Act, the Department allows a period of time for members of the public to comment on proposed rules. In this case, we will allow 60 days for comments. In making any modifications to this notice of proposed rulemaking, we are not required to consider comments received beyond the 60-day comment period. To make sure your comments are addressed fully, we suggest the following:

• Be specific;

• Address only issues raised by the proposed rule, not the provisions of the law itself;

• Explain reasons for any objections or recommended changes;

• Propose appropriate alternatives; and

• Reference the specific section of the notice of the proposed rulemaking being addressed.

The preamble to this proposed rule is organized as follows:

• Background of the proposals.

• Consultative processes used prior to developing the proposed standards.

• Scope of the rule.

• Section-by-section analysis and explanation of the proposed requirements.

The section-by-section analysis is organized to follow the framework of 45 CFR part 1351. It proposes revisions to:

• Significant terms used in the program;

• Stated purposes of the program;

• Eligibility for grants;

• Priorities for awards;

• Matching requirements;

• Project periods;

• Allowable and non-allowable costs;

• Application procedures;

• Funding criteria;

• Other Federal requirements; and

• Additional requirements that apply to all runaway and homeless youth program services grants.

A new section follows proposing program-specific standards, both performance standards and other standards, for each of the three major grant programs authorized under the Runaway and Homeless Youth Act.

III. Background

The Runaway and Homeless Youth Act (“the Act”) authorizes three major grant programs administered by the Family and Youth Services Bureau (FYSB), Administration on Children, Youth and Families (ACYF), Administration for Children and Families (ACF), in the Department of Health and Human Services (HHS). These programs support local efforts to assist youth who have run away or are homeless. The Act also authorizes additional activities conducted through grants, including grants for research, evaluation, and service projects; grants for a national communications system to assist runaway and homeless youth in communicating with their families and service providers; and grants for technical assistance and training. The proposed rule covers all of these activities.

The Basic Center Grant Program (hereafter referred to as the Basic Center Program) funds grants to community-based public and private agencies for the provision of outreach, crisis intervention, temporary shelter, counseling, family unification, and aftercare services to runaway and homeless youth and their families. Basic Center projects generally serve youth under 18 years of age and can provide up to 21 days of shelter.

The Transitional Living Grant Program (hereafter referred to as the Transitional Living Program) provides grants to public and private organizations for community-based shelter including group homes, host family homes, and supervised apartments for youth, ages 16 to under 22, who cannot safely live with their own families. Transitional Living projects provide a long-term, safe, stable, and nurturing environment for up to 21 months. Young people who have not yet reached their 18th birthday at the end of the 21-month period may continue to receive services until they turn 18. Services include counseling in basic life skills, interpersonal skill building, educational advancement, job attainment skills, and physical and mental health care. These services are designed to help youth who are homeless develop the skills necessary to make a successful transition to self-sufficient living. The Transitional Living Program also funds Maternity Group Homes, which are specifically designed to meet the needs of pregnant and parenting youth.

The Education and Prevention Services to Reduce Sexual Abuse of Runaway, Homeless and Street Youth Program (hereafter referred to as the Street Outreach Program) provides grants to public and private organizations for street-based outreach and education, including treatment, counseling, provision of information, and referrals for runaway, homeless, and street youth 21 years and younger who have been subjected to or are at risk of being subjected to sexual abuse or exploitation.

The Reconnecting Homeless Youth Act of 2008 (hereafter referred to as “the 2008 Act”) (Pub. L. 110-378) reauthorized the Runaway and Homeless Youth Act through FY 2013, and made a number of changes to the Act, including a requirement for the establishment of rules that specify performance standards for public and nonprofit private entities and agencies that receive grants authorized under sections 311, 321, and 351 of the Runaway and Homeless Youth Act.

We have already implemented elements of these statutory mandates through funding opportunity announcements, technical assistance and training, and data collection. This proposed rule would allow us to complete implementation of these legislative requirements. In addition, it would bring our codified regulations, last updated August 17, 2000 (65 FR 50139), into conformity with existing statutory provisions, the administrative and managerial procedures we already use in accordance with the 2008 Act, and previous statutory changes. We intend to provide technical assistance to grantees that focuses on effective implementation of these performance standards, and to implement them as new budget periods begin, after promulgation of a final rule, rather than in the middle of an existing budget period.

IV. Consultation and the Development of the NPRM

In keeping with the requirements of the statute, the Family and Youth Services Bureau (FYSB) sought input from grantees and other stakeholders prior to the development of this proposed rule. In April 2009, FYSB conducted a consultation forum that brought together forty-four individuals including subject experts, technical assistance providers, Runaway and Homeless Youth grantees, Federal staff, persons with extensive program monitoring experience, and national, regional and statewide youth servicing organization representatives.

Consultation participants represented the vast diversity of Runaway and Homeless Youth grantees from each geographic region and program size. Consultation participants also had expertise and extensive knowledge of the three FYSB Runaway and Homeless Youth programs. The three-day forum provided an opportunity for exchanges of views and ideas from a wide array of perspectives.

FYSB also has obtained stakeholder perspectives and other information to inform this proposed rule in a number of additional ways. Since 2008, we have conducted national conferences bringing together all stakeholder groups and allowing for broad, informal exchanges of views. One such conference, the 2008 Runaway and Homeless Youth Grantee Conference, was attended by 442 participants, including representatives from 252 grantee organizations, to share ideas, promising approaches, and best practices. Participants met in over 30 different workshops addressing both universal issues and specific programmatic needs of the three major Runaway and Homeless Youth programs. Through the Runaway and Homeless Youth Training and Technical Assistance Centers, we have conducted an extensive training, technical assistance, and monitoring effort aimed not only at assisting grantees, but also at obtaining their feedback on operational issues. In tandem with these efforts, we conducted an in-depth review of existing regulatory and sub-regulatory issuances and developed a comprehensive set of on-site review materials, in use since February 2009.

These consultative processes provided valuable input that we have used in formulating the proposed performance and procedural standards. Importantly, the input we received emphasized that:

• The standards should promote an integrated, holistic approach to service delivery.

• The standards should be responsive to the complex social identities (i.e. race, ethnicity, nationality, religion/spirituality, gender identity/expression, sexual orientation, socioeconomic status, physical ability, language, beliefs, values, behavior patterns, or customs) of clients.

• The standards should serve as models for program quality and encourage programs to strive for excellence.

• The standards should achieve a balance between clarity and precision of regulatory intent and regulatory flexibility so that programs can be most responsive to local needs, settings, and circumstances.

• The standards should place emphasis on family-focused aspects of the program by strengthening links with local community providers, and helping families identify and address individualized goals.

• Standards of any kind—whether performance or procedural—should facilitate rather than impede local flexibility in creating and operating effective programs that respond to local needs and priorities.

• Standards should not unnecessarily impose burdensome requirements that would divert local resources away from service.

We agree that “Regular measurement of progress toward specified outcomes is a vital component of any effort at managing-for-results” (Harry P. Hatry, Performance Measurement, Urban Institute Press, 2006). That said, we recognize that effective, workable, and successful performance standards are extremely difficult to formulate. Among the difficulties involved, some of the most important goals may be qualitative rather than quantitative. Near-term results may not correctly signal long-term effects. Measurement and appraisal may reduce the resources available for services. Not only may local circumstances vary, but also achieving a lower absolute result in some settings may actually reflect superior performance over other settings because difficulties were greater. There are challenges in establishing performance measures. However, they hold promise with regard to driving performance and assuring accountability. Despite these difficulties, in recent years some Federal programs, including the Runaway and Homeless Youth Program, have increasingly incorporated performance measures and standards into their ongoing operations because they can drive program improvement and help assure accountability. The standards and measures proposed in this rule represent what we believe are appropriate and realistic, consistent with the underlying complexity of the problems and processes involved in serving homeless and runaway youth. We welcome comments on whether our proposed standards strike the proper balance in meeting the objectives stated above, including measuring the most important program goals that are feasible to measure, preserving flexibility to grantees, and minimizing unnecessary burden. We welcome suggestions, particularly those supported by research or evaluative evidence, for improvements in the proposed standards.

We also seek in this proposed rule to update program requirements that are important to successful implementation of the program. For example, as discussed in the section-by-section analysis, we propose to continue the requirement that grantees coordinate their activities with the 24-hour National Toll-free Communication System and that grantees submit statistical reports. We propose to include in the text of the regulation a number of statutory requirements that are currently used in program administration. For example, we propose to continue the implementation of a statutory requirement that Basic Center grantees shall have an intake procedure that is available 24 hours a day, 7 days a week, to all youth seeking services and shelter and that addresses and responds to immediate needs for crisis counseling, food, clothing, shelter, and health care services. Additionally, we want to underscore the importance of grantees coordinating with and working with other providers of services to homeless individuals, and strongly encourage grantees to collaborate with their local Continuum of Care, with the goal of ending youth homelessness.

In developing this proposed rule, we considered a large number of potential process and procedural requirements, some of which were generated by our public consultative process. We propose to codify a targeted number of these in order to minimize burden on grantees and to provide grantees flexibility in meeting their performance standards and in dealing with unique circumstances in their communities. Moreover, we believe that there are many effective practices that are best handled through technical assistance and training rather than established as regulatory standards.

V. Scope of the Proposed Rule

This rule proposes Runaway and Homeless Youth Program Performance Standards to help assess the quality and effectiveness of the Runaway and Homeless Youth Program nationally by providing indicators of successful outcomes for youth. The performance standards will be used to monitor individual project performance in achieving the purposes of the Act. Projects will also be subject to other requirements including other applicable regulations (e.g., civil rights regulations), and those cited in funding opportunity announcements.

This proposed rule also makes largely technical changes to existing program rules to conform to current law and to correct outdated provisions. Equally important, it proposes to revise our regulatory provisions on making awards to reflect the performance standards and to reflect onsite review and monitoring procedures that have been in place for a number of years.

All grantees will be expected to comply with newly imposed standards when final rules are issued and become effective. We propose, however, to delay applicability of the new performance standards until the beginning of the next budget period (typically October 1) after the effective date of the final rule. This will allow existing grantees time to come into compliance with the new standards, provide time for us to assist grantees, and avoid any confusion that may result from changing standards in the middle of budget periods as well as provide new grantees advance notice of expectations. To assist grantees, we will provide them with guidance on best practices for implementing the standards. We also plan to conduct additional technical assistance to help grantee agencies understand and implement the new standards. We intend for the proposed rule to complement our existing efforts to strengthen Runaway and Homeless Youth monitoring and to improve the overall program.

VI. Section-by-Section Discussion of the Regulatory Provisions

Subpart A. Definition of Terms

We propose to update the definitions of significant terms in § 1351.1 to reflect current statutory terminology and operating practice. We propose to revise a number of existing definitions, to add a number of definitions, to delete a few definitions that we do not believe are useful or necessary, and to change the format of the definitions. We request comment on each new or revised definition. For the most part, the additions and revisions are intended to reflect both recent changes to the statute and important practices in the administration of the program. The definitions section applies to all grants under the Act. Each individual definition only applies as it is applicable to each type of grant. The consultative process assisted in our proposed revisions because, as noted by many participants, the current regulations do not focus on some of the most important purposes and services of the programs operated under the statute. We add or clarify definitions to help achieve this goal.

We propose to add a definition of Act to read: Act means the Runaway and Homeless Youth Act as amended.

We propose to revise the definition of Aftercare to read: Aftercare means additional services provided beyond the period of residential stay that offer continuity and supportive follow-up to youth served by the program. This would simplify the current definition for clarity but operationally constitutes no change.

We propose to delete the term “area” because a precise definition is not required for the purposes of the program.

As discussed later in the preamble, we propose to add a requirement for background checks of project staff and volunteers who come into contact with children and youth served or proposed to be served by the agency, and thus propose to add a definition to read: Background check means the review of an individual employee's or employment applicant's personal information, which shall include verification of educational credentials and employment experience, as well as a national examination of the individual's criminal records, and an examination of the individual's driving records, licensing records, and child abuse or neglect history. Volunteers who come into contact with children and youth served or proposed to be served by the agency must also undergo a background check. The purpose of such a background check is to protect both the grantee and the clients from potential harm from an employee or volunteer whose history presents a serious risk.

Because a budget period is an essential element of project funding, we propose to add a definition to read: Budget period means the interval of time into which a multi-year period of assistance (project period) is divided for budgetary and funding purposes.

Case management is a central concept in serving client youth, and we propose to add a definition to read: Case management means assessing the needs of the client and, as appropriate, arranging, coordinating, monitoring, evaluating, and advocating for a package of services to meet the specific needs of the client.

Similarly, we propose to define the term client to read: Client means a runaway, homeless, or street youth, or youth at risk of running away or becoming homeless, who is served by a program grantee. This definition covers the full range of youth served under the program as it operates today.

We propose to delete the definition of “Coordinated networks of agencies” because the term is self-explanatory and is not used in any substantive provision of the regulations.

We propose to add definitions for congregate care, drop-in center, host family home, and supervised apartments to distinguish among different types of center models. These definitions distinguish centers that provide or use referrals for the full range of services provided in the Basic Center Program, Transitional Living Program, and/or Street Outreach Program as appropriate from alternative models that provide more limited services. We propose congregate care to read: Congregate care means a shelter type that combines living quarters and restroom facilities with centralized dining services, shared living spaces, and access to social and recreational activities. We propose drop-in center to read: Drop-in center means a place operated and staffed for runaway or homeless youth that clients can visit without an appointment to get advice or information, to receive services or service referrals, or to meet other runaway or homeless youth. We propose host family home to read: Host family home means a family or single adult home that provides shelter to a homeless youth. And we propose supervised apartments to read: Supervised apartments means a type of shelter setting using building(s) with separate residential units where client supervision is provided on site or on call 24 hours a day. Supervised apartments can be scattered throughout the community, but they must be supervised.

Core competencies are essential in providing services that lead to improved outcomes for clients. We propose to add a definition for core competencies of youth worker to read: Core competencies of youth worker means the ability to demonstrate skills in all of six domain areas: (1) Professionalism (including, but not limited to, consistent and reliable job performance, awareness and use of professional ethics to guide practice), (2) applied positive youth development approach (including, but not limited to, skills to develop a positive youth development plan and identifying the client's strengths in order to best apply a positive youth development framework), (3) cultural and human diversity (including, but not limited to, gaining knowledge and skills to meet the needs of clients of a different race, ethnicity, nationality, religion/spirituality, gender identity/expression, sexual orientation), (4) applied human development (including, but not limited to, understanding the needs of those at risk and with special needs), (5) relationship and communication (including, but not limited to, working with clients in a collaborative manner), and (6) developmental practice methods (including, but not limited to, utilizing methods focused on genuine relationships, health and safety, intervention planning).

We propose to revise the definition of counseling services to include runaway prevention and intervention related services as follows: Counseling services means the provision of guidance, support, referrals for services including, but not limited to, health services, and advice to runaway or otherwise homeless youth and their families, as well as to youth and families when a young person is at risk of running away. These services are designed to alleviate the problems that have put the youth at risk of running away or contributed to his or her running away or being homeless.

We propose to delete the definition of “Demonstrably frequented by or reachable”. The definition is unnecessary.

Drug abuse intervention and prevention services are important, and are defined under that term in the Act (section 387(1)). We propose to broaden the substance of the statutory definition in regulatory text to read: Drug abuse intervention and prevention services means services to prevent or reduce drug and/or alcohol abuse by runaway and homeless youth, and may include (i) individual, family, group, and peer counseling; (ii) drop-in services; (iii) assistance to runaway and homeless youth in rural areas (including the development of community support groups); (iv) information and training relating to drug and/or alcohol abuse by runaway and homeless youth to individuals involved in providing services to such youth; and (v) activities to improve the availability of local drug and/or alcohol abuse prevention services to runaway and homeless youth. Our reason for the broadening of this definition is two-fold: (1) We note that the RHY statute explicitly contemplates services to address alcohol abuse in section 387(5); (2) the inclusion of alcohol abuse in addition to drug abuse is standard practice in the substance abuse field as is demonstrated in the definition used by the Substance Abuse and Mental Health Services Administration that “substance abuse means the abuse of alcohol or other drugs.”

We add a proposed definition of health care services to read: Health care services include physical, mental, behavioral, and dental health services and, in the case of Maternity Group Homes, are provided to the child of the youth and are included in the proposed performance standards. Additionally, the statute requires that in the case of home-based services under Part A, a youth's family (including unrelated individuals in the family households) shall receive counseling and information related to mental and physical health care services. Therefore, the proposed definition also includes, where applicable and allowable within a program, family or household members of the youth shall receive information on appropriate health related services.

We propose to follow the substance of the statutory definition (section 387(2)) of home-based services to read as follows: Home-based services means services provided to youth and their families for the purpose of (i) preventing such youth from running away or otherwise becoming separated from their families and (ii) assisting runaway youth to return to their families. It includes services that are provided in the residences of families (to the extent practicable), including intensive individual and family counseling and training relating to life skills and parenting.

Homeless youth is an essential definition because it identifies individuals eligible to be served under the Act. The current regulatory definition is obsolete and we propose to replace it to read as follows, paraphrasing the Act (section 387(3)): Homeless youth means an individual who cannot live safely with a parent, guardian or relative, and who has no other safe alternative living arrangement. For purposes of Basic Center Program eligibility, a homeless youth must be less than 18 years of age (or higher if allowed by a State or local law or regulation that applies to licensure requirements for child- or youth-serving facilities). For purposes of Transitional Living Program eligibility, a homeless youth cannot be less than 16 years of age and must be less than 22 years of age (unless the individual commenced his or her stay before age 22, and the maximum service period has not ended).

Intake services are essential functions under the Act. We propose to define intake to read: Intake means a process for gathering information to assess eligibility and the services required to meet the immediate needs of the client.

Extremely important in this program are interfaces between Runaway and Homeless Youth projects and juvenile justice facilities, including any location a youth is placed by order of the court for a set period of time. We propose to expand the existing definition of juvenile justice systems to read: Juvenile justice systems, institutions, or authorities means agencies that include, but are not limited to, juvenile courts, correctional institutions, detention facilities, law enforcement, training schools, or agencies that use probation, parole, and/or court ordered home confinement. We note that grantees under the RHY programs are not obliged to serve youth who are under probation or parole. The RHY program was created as an alternative to involving runaway and homeless youth in the law enforcement, child welfare, mental health, and juvenile justice system. Indeed, as discussed later in the preamble we propose to add a program-wide requirement that grantees not provide services that substitute for those that juvenile justice, child welfare, or other systems are legally responsible for providing to youth who have not been released from their supervision.

There are two definitions in the current regulations that are unnecessary, and accordingly we propose to delete: “law enforcement structure”, and “a locality.”

For runaway and homeless youth who are pregnant or who have children, congregate or scattered-site maternity-related services are essential. Accordingly, we propose to define a key service: Maternity group home means a community-based, adult-supervised transitional living arrangement where client oversight is provided on site or on-call 24 hours a day and that provides pregnant or parenting youth and their children with a supportive environment in which to learn parenting skills, including child development, family budgeting, health and nutrition, and other skills to promote their long-term economic independence and ensure the well-being of their children.

We propose to add a definition for outreach to read as follows: Outreach means finding runaway, homeless, and street youth, as well as youth at risk of running away or becoming homeless, who might not use services due to lack of awareness or active avoidance, providing information to them about services and benefits, and encouraging the use of appropriate services. Outreach includes low-barrier services such as food packs and personal hygiene packs.

We include risk and protective factors under the list of technical assistance or short-term training that may be determined as necessary by HHS as a condition of funding. Therefore, we propose a definition of risk and protective factors to read: Risk and protective factors mean those factors that are measureable characteristics of a youth that can occur at multiple levels, including biological, psychological, family, community, and cultural levels, that precede and are associated with an outcome. Risk factors are associated with a higher likelihood of problem outcomes, and protective factors are associated with a lower likelihood of problem outcomes.

Another core statutory term is runaway youth. We propose to update the existing definition to reflect the Act (section 387(4)), to read: Runaway youth means an individual under 18 years of age who absents himself or herself from home or place of legal residence without the permission of a parent or legal guardian.

We propose to revise the definition of runaway and homeless youth project to reflect the current scope of services under the Act. The revised definition would read: Runaway and homeless youth project means a community-based program outside the juvenile justice and child welfare systems that provides runaway prevention, outreach, shelter, and transition services to runaway, homeless, or street youth or youth at risk of running away or becoming homeless.

The expectation for Basic Center projects is that they effectively stabilize the youth over a short period of time while working with the youth to strengthen family relationships, assisting the youth in determining their best future course of action, and, to the extent appropriate, reunifying the youth with their families. The expectation for Transitional Living projects is that they effectively provide longer term housing support while working with the youth to develop skills and competencies that lead to self-sufficiency, improving family relationships, and planning for future education, employment and independent living. Certain exit outcomes align with these goals (including, but not limited to, reunification with family, residing in a private residence or residential program where rent is paid, residing in a program with a structured educational/vocational training program), while others are contrary to these goals. Therefore, we propose to add a definition of Safe and Appropriate Settings When Exiting Basic Center Program Services or Transitional Living Program Services. The definition would read: Safe and Appropriate Settings When Exiting Basic Center Program Services or Transitional Living Program Services means settings that reflect achievement of the intended purposes of the Basic Center and Transitional Living programs as outlined in section 382(a) of the Act. Safe and Appropriate Settings When Exiting Basic Center Program Services or Transitional Living Program Services are not exits:

• To another shelter;

• To the street;

• To a private residence, other than a youth who is staying stably with family, if the youth is not paying rent;

• To another residential program if the youth is not paying rent or if the youth's transition to the other residential program was unplanned;

• To a correctional institute or detention center if the youth became involved in activities that lead to this exit after entering the program;

• To an unspecified other living situation; or

• To a living situation that is not known.

By defining “Safe and Appropriate Settings,” our intent is to move the field beyond just finding a place for the youth to stay. Basic Center projects must also work toward: (A) Alleviating the problems of runaway and homeless youth; (B) if applicable or appropriate, reuniting such youth with their families and encouraging the resolution of intra-family problems through counseling and other services; (C) strengthening family relationships and encouraging stable living conditions for such youth; and (D) assisting such youth in deciding on a future course of action.

The ultimate goal of Transitional Living projects is to provide those services that lead to self-sufficiencies. Beyond housing, Transitional Living projects are to address the following to meet the standard: (A) The number and characteristics of homeless youth served by such projects; (B) the types of activities carried out by such projects; (C) the ability of such projects to alleviate the problems of homeless youth; (D) the ability of such projects to prepare homeless youth for self-sufficiency; (E) the ability of such projects to assist homeless youth to decide on future education, employment, and independent living; (F) the ability of such projects to encourage the resolution of intra-family problems through counseling and development of self-sufficient living skills; and (G) activities and programs planned by such projects for the following fiscal year.

We include screening and assessment under the list of technical assistance or short-term training that may be determined as necessary by HHS as a condition of funding as well as within some of the proposed program standards. Therefore, we propose a definition of screening and assessment to read: Screening and assessment means standardized instruments and practices used to validly and reliably identify each youth's individual strengths and needs across multiple aspects of health, wellbeing and behavior in order to inform appropriate service decisions and provide a baseline for monitoring outcomes over time. Screening involves brief instruments, for example with trauma and health problems, which can indicate certain youth for more thorough diagnostic assessments and service needs. Assessment, which is used here to mean assessment more broadly than for the purposes of diagnosis, involves evaluating multiple aspects of social, emotional, and behavioral competencies and functioning in order to inform service decisions and monitor outcomes.

We also propose to define a service plan, sometimes called a treatment plan, to read: Service plan or treatment plan means a written plan of action based on the assessment of client needs and strengths and engaging in joint problem-solving with the client that identifies problems, sets goals, and describes a strategy for achieving those goals. To the extent possible, the plan should incorporate the use of evidence-based or evidence-informed interventions. It should also include safety planning.

We propose to retain the definition of short-term training as the provision of local, State, or regionally-based instruction to runaway or otherwise homeless youth service providers in skill areas that will directly strengthen service delivery.

From the Act (section 387(6)), we propose to define street youth to read: Street youth means an individual who is a runaway youth or an indefinitely or intermittently homeless youth who spends a significant amount of time on the street or in other areas that increase the risk to such youth for sexual abuse, sexual exploitation, prostitution, or drug and/or alcohol abuse. For purposes of this definition, youth means an individual who is age 21 or less.

We propose to retain the definition of State under the current rule, which defines State as any State of the United States, the District of Columbia, the Commonwealth of Puerto Rico, the Commonwealth of the Northern Mariana Islands, and any territory or possession of the United States.

We propose to retain the definition of technical assistance as the provision of expertise or support for the purpose of strengthening the capabilities of grantee organizations to deliver services.

Finally, we propose to update the definition of temporary shelter to read: Temporary shelter means all shelter settings in which runaway and homeless youth are provided room and board, crisis intervention, and other services on a 24-hour basis for up to 21 days. If a youth stays at a facility for longer than 21 days, the agency must utilize other funding sources when providing services and shelter for the extra days.

Subpart B—Runaway and Homeless Youth Program Grants

The existing rule contains a number of sections dealing with the purposes of the program, eligibility for grants, priority for grants, matching requirements, the period of grant awards, allowable costs, application procedures, criteria for grant funding decisions, and additional information for grantees. We propose revisions to all of these sections as well as to the title of the subpart to be Runaway and Homeless Youth Program Grants. These sections apply to all grants under the program.

Purpose

Currently, § 1351.10 asks, “What is the purpose of the Runaway and Homeless Youth Program grant?” We propose to re-title this section “What is the purpose of Runaway and Homeless Youth Program grants?” This change in title reflects the growth of the program over time from the core Basic Center Program to a broader range of grant types and purposes. Relatedly, we propose to amend the statement of purpose to emphasize not only transitional living services and other services added in recent years, but also the increasing emphasis on prevention and on the vulnerability of these youth. Under the proposal, the purpose of Runaway and Homeless Youth program grants would be to establish or strengthen community-based projects to provide runaway prevention, outreach, shelter, and transition services to runaway, homeless, or street youth or youth at risk of running away or becoming homeless. Youth who have become homeless or who leave and remain away from home without parental permission are disproportionately subject to serious health, behavioral, and emotional problems.1 2 They lack sufficient resources to obtain care and may live on the street for extended periods, unable to achieve stable safe living arrangements and at times putting themselves in danger.3 4 Many are urgently in need of temporary shelter and services,⁵ including services that are linguistically appropriate, responsive to their complex social identities (i.e., race, ethnicity, nationality, religion/spirituality, gender identity/expression, sexual orientation, socioeconomic status, physical ability, language, beliefs, values, behavior patterns, or customs), and acknowledge the environment they come from. Services should take a positive youth development approach that ensures a young person a sense of safety and structure; belonging and membership; self-worth and social contribution; independence and control over one's life; skills to develop plans for the future and set goals; and, closeness in interpersonal relationships.⁶ To make a successful transition to adulthood, runaway youth, homeless youth, and other street youth also need opportunities to complete high school or earn a general equivalency degree, learn job skills, and obtain employment. HHS operates three programs to carry out these purposes through direct local services: The Basic Center Program, the Transitional Living Program (including Maternity Group Homes), and the Street Outreach Program. HHS operates three additional activities to support achievement of these purposes: research, evaluation, and service projects; a national communications system to assist runaway and homeless youth in communicating with service providers; and technical assistance and training. The proposed rule covers all of these activities.

¹ Whitbeck, LB; Johnson, KD; Hoyt, DR & Cauce, AM. (2004). Mental disorder and comorbidity among runaway and homeless adolescents. Journal of Adolescent Health. 35(2): 132.

² Cauce, AM, et al. (2000). The characteristics and mental health of homeless adolescents. Journal of Emotional and Behavioral Disorders. 8(4):230.

³ Whitbeck, LB; Chen, X; Hoyt, DR; Tyler, KA & Johnson, KD. (2004). Mental disorder, subsistence strategies, and victimization among gay, lesbian, and bisexual homeless and runaway adolescents. The Journal of Sex Research. 41(4):329.

⁴ Greene, JM; Ennet, ST & Ringwalk, CL. (1999). Prevalence and correlates of survival sex among runaway and homeless youth. American Journal of Public Health. 89(9):1406.

⁵ Clark, R. & Robertson, M.J. (1996). Surviving for the Moment: A Report on Homeless Youth in San Francisco. Berkeley: Alcohol Research Group.

⁶ Taylor-Seehafer, MA. (2004). Positive youth development: Reducing the health risks of homeless youth. MCN, American Journal of Maternal Child Nursing. 29(1):36.

Eligibility for Grants

The existing rule asks in § 1351.11 “Who is eligible to apply for a Runaway and Homeless Youth program grant?” The eligibility requirements of the program have not changed significantly over the years but we propose changes to this section to conform the regulatory language to the current statute. We propose to state that all public (State and local) and private non-profit entities, and coordinated networks of such entities, are eligible to apply for a Runaway and Homeless Youth Program grant unless they are part of the law enforcement structure or the juvenile justice system. While specific regulatory language is not needed, we wish to point out that most faith-based organizations meet the regulatory definition of non-profit.

Priority for Awards

The existing regulation addresses priority for awards in § 1351.12. We propose significant changes to the language regarding grant award priorities. We reference the new performance standards, we propose to raise the priority award level on the amounts available for award to $200,000 (from $100,000 in the current regulations), and we propose to raise the priority threshold on total project budgets, taking into account the funding from all sources, to $200,000 (from $150,000 in the current regulations). The change to the priority for grantees requesting awards for the Basic Center Program, the Transitional Living Program (including Maternity Group Homes), and the Street Outreach Program under a certain dollar level reflects inflation since the regulation was last revised. We also have indicated that future funding opportunity announcements may adjust these thresholds to account for inflation. We specifically state that we will give higher priority to those existing grantees that have performed better than other existing grantees in allocating funds, and to new applicants who are more likely to meet all applicable requirements than other new and/or existing grantees. For clarity, we specifically reference both performance standards and other requirements. This language allows new applicants to demonstrate a likelihood of meeting applicable performance and other regulatory or funding opportunity standards, without requiring prior experience. Of course, an applicant with prior experience may be more likely to demonstrate its capabilities, but we propose changing the existing rule to indicate prior experience shall be weighed along with performance. While the statute is clear about preference for prior experience, new requirements for performance standards makes clear that experience must be weighed along with performance. These procedures and priorities apply to all types of grantees, but only as applicable (e.g., we do not establish performance standards for research or demonstration projects.)

We call attention to the phrase “performed highly in comparison to other agencies.” We are not proposing that meeting every particular requirement, including performance standards, is a prerequisite for funding, although there may be cases where such a determination would be made (e.g., for conforming to civil rights laws or conducting background checks). We are proposing that applicants must compete for funds with other agencies, and that relative performance will be a factor in making award decisions among existing grantees.

In discussing priorities, we do not specifically address geographic area(s) to be served. That will typically be addressed in funding opportunity announcements and may, depending on the type of grant, be national. We assume that either new applicants or existing grantees can compete for awards in the same geographic area. For example, a grantee already serving one city could apply for a grant to serve an additional city. As discussed later in this preamble in the performance standards section, we also do not propose to give specific numeric weights to failures to meet particular standards, whether performance standards or others. This allows for funding decisions that take into account unique local circumstances that favor or impede high performance, and for evidence that an applicant is both able and willing to correct a deficiency. This also allows for increases or decreases in grant awards to reward or penalize grantees whose performance is particularly high or modestly weak, without making the award decision “all or nothing.” Finally, it allows us to take into account availability of funds and other factors such as State allotment requirements. We note that the $200,000 priority award level on grant awards is unrelated to the statutory requirement that each State has an allotment of not less than $200,000. There may be, and usually are, multiple awards in each State. The statutory requirement simply means that the total of such awards in any State be at least $200,000 (and $70,000 for territories).

We request comments on these proposed priorities and on ways to improve or refine them.

Matching Requirements

We propose a change to § 1351.13 regarding matching share. The current regulatory language conflicts with the statute on the amount of funding required by grantees to satisfy the match requirement. The current language requires a non-Federal match amount of 10 percent of the Federal share. To align the statute and the regulations, we propose that the Federal share reflect 90 percent, thus the remaining 10 percent represents the match cost, cash or in-kind contributions.

We note that the language of the statute is phrased in terms implying an exact 10 percent matching share, but the Department has always taken the position that the language should not be interpreted to prevent grantees from spending additional funds from their own resources.

Project Period

We have not proposed changes to § 1351.14, providing that the period for which a grant will be awarded is generally one year, renewable annually. The existing rule says that the project period during which the project will not have to re-compete for funds will not exceed five years and we see no reason to change this limit. Of course, we may specify a shorter project period in our program solicitations, and currently do so for the Basic Center Program and the Street Outreach Program, where the project period is generally three years.

Supportable Costs

We propose minor changes to update the language under § 1315.15 to more fully describe costs allowed under Runaway and Homeless Youth grants. Costs that can be supported include, but are not limited to, staff training and core services such as outreach, intake, case management, data collection, temporary shelter, transitional living arrangements, referral services, counseling services, and aftercare services. We retain the existing prohibition against acquisition or renovation costs that exceed 15 percent of the grant award, subject to potential waiver. We also propose adding language that clarifies that research and evaluation, communications, and technical assistance grants are allowed costs that pertain to their unique purposes.

Costs Not Allowable

We propose a change to the language under § 1351.16 that currently states only that capital costs for new facilities are not allowed under Runaway and Homeless Youth grants. We propose retaining this prohibition and also explicitly prohibiting payment for the operating costs of existing community centers or other facilities that are used partially or incidentally for services to runaway or homeless youth clients. This does not mean that a reasonable fraction of utility or other overhead costs could not be charged to our grant when a facility provides multiple services, but it does mean that such fraction would have to be based on a reasonable cost allocation method approved by HHS, such as proportion of square footage devoted exclusively to each service in the facility. Separable costs of the runaway and homeless youth project are, of course, fully reimbursable. The reason for this clarification is that we have seen proposed project budgets that include disproportionate allocations of facility-wide or overhead costs to runaway and homeless youth projects that use only a small portion of the facility.

Application Procedures

Current rules under § 1351.17 provide that HHS will publish program announcements of availability of grant funds annually in the Federal Register, and includes specific but outdated procedures for obtaining announcements and submitting applications. We propose to change § 1351.17 to address three changes since the rule was last revised. First, proposed paragraph (a) recognizes that we now rely primarily on the Internet (rather than the Federal Register) for publication of our funding opportunity announcements. Second, under proposed paragraph (b) we now allow for electronic submission of completed grant applications through the Federal government's http://www.grants.gov Web site. We continue to allow for paper applications for grants. Third, our proposed language says that we publish such announcements periodically rather than annually. The timing and frequency varies by type of grant and has changed over time.

Funding Criteria

Under existing § 1351.18 we list a number of criteria that we use for deciding which grant applications to fund. We propose small technical changes to these criteria.

Under paragraph (a) we propose to retain the criteria that proposed projects meet funding priorities. We also add a clause making specific reference to our use of funding opportunity announcements to establish specific details of the broad requirements, standards, and evaluation criteria contained in this proposed rule. Under the proposal, in reviewing applications HHS will take into consideration factors including whether the grant application meets the particular priorities, requirements, standards, or evaluation criteria established in funding opportunity announcements. We renumber these criteria accordingly.

In paragraph (b), we propose to modify and combine the current requirements of paragraphs (b) and (c) for demonstrating “need” to require that the likely estimated number of unserved runaway and homeless youth in the area exceeds the capacity of existing services. That is, we do not require a census-like count of such youth, but merely a reasonable estimate that the number of such youth exceeds the capacity of existing services. We welcome comment on these proposed changes.

Under proposed paragraph (c), we propose to retain the existing requirement that runaway and homeless youth centers maintain a minimum residential capacity of 4 and a maximum of 20 (except where the applicant assures that the State where the center or locally controlled facility is located has a State or local law or regulation that requires a higher maximum to comply with licensure requirements for child and youth serving facilities) for all youth residing at the shelter on any given night. We propose to clarify that the capacity standards apply only to grants that include such centers. We also propose to revise the regulation to require centers to have the number of staff sufficient to assure adequate supervision of and treatment for the number of clients served rather than a mandatory ratio of staff to clients. This change is for consistency with the statute at section 321(b)(2)(B). While we are not aware of any objective or agreed-upon basis for establishing such a ratio, an agency would refer to State laws and licensing regulations as they pertain to runaway and homeless youth shelters for guidelines. If no runaway and homeless youth shelter laws and licensing regulations have been established in a State, the agency would refer to State child welfare laws and regulations for youth. Agencies would be required to cite the guidelines they are following for the staff ratios they deem to be appropriate.

Under paragraph (d) we propose to slightly modify the criteria under current paragraph (e) removing the language concerning the 72 hour timeframe from admission for the program to make contact with family. The requirement is contained in Subpart C at new section 1351.21(e) and in proposed new Subpart D at § 1351.30(a)(1).

We propose to retain the language in current paragraphs (f)-(h) and renumber them (e)-(g).

We further propose to add a new paragraph (h) to include past performance in a RHY grant, including but not limited to programs standards. Current paragraphs (i) and (j) would be unchanged. A new paragraph (k) is proposed to include other factors as outlined in the funding opportunity announcements.

We welcome comment on all these proposed changes to the Funding Criteria and ask that commenters proposing alternatives provide, if possible, research evidence in support of those alternatives. In this context, and throughout this proposed rule, we specifically ask commenters to distinguish between desirable best practices and minimum requirements that demonstrably preclude an applicant from providing an effective program.

Other Federal Requirements and Program Policies

Under the current rule, § 1351.19 contains a list of other rules and regulations that apply to applicants for, or recipients, of program funds. These include, for example, regulations concerning civil rights obligations of recipients and regulations concerning fraud, waste, and abuse. The existing text lists only five such rules. We propose amending it to include additional rules that also are specifically intended to apply to all HHS grantees or, in some cases, to all Federal grantees. The expanded list under proposed paragraph (a) includes rules related to civil rights requirements, to other client protections, to administrative requirements in HHS grant programs, and to preventing fraud or abuse. This expanded list does not attempt to list all the Federal laws and regulations (e.g., provisions of the Internal Revenue Code regarding non-profit status) that pertain to organizations that may be grant applicants or awardees. The provisions we list here are not all administered through either the Administration for Children and Families or its Runaway and Homeless Youth Program (though the agency may in some instances assist in their enforcement), but are for the most part administered by other HHS components or by other Federal agencies that set the conditions and enforcement mechanisms that apply to those provisions, and that determine whether and in what circumstances grant-related penalties may apply. For example, the HHS Office for Civil Rights enforces civil rights protections. This section already contains in paragraph (b) several additional provisions, mainly client confidentiality protections, that we do not propose to change. In paragraph (c), we propose to update our reference to the Act as defined in this proposed rule. We also propose to amend the title of the section to include “other Federal Requirements” in the title.

Subpart C—Additional Requirements That Apply to All Runaway and Homeless Youth Program Local Services Grants

Subpart C of the existing rule contains three crosscutting program-wide requirements that apply to all local services grants, at § 1351.20(a), (b), and (c). At the time the rule was last revised, certain types of grants, such as those under the Street Outreach Program, were not part of the overall Runaway and Homeless Youth Program. We propose to amend this section to make clear that it applies to the three major types of local services grants. It does not, however, apply to grants for research, evaluation, demonstration and service projects; grants for a national communications system to assist runaway and homeless youth in communicating with service providers; and grants for technical assistance and training.

We propose a substantial expansion of regulatory provisions under Subpart C. We are aware that a myriad of additional provisions could be considered. For example, we considered including specific board composition and governance requirements for all grantees, and specific standards for counseling clients and for the condition of residential centers and shelters. We also considered specific planning requirements for determination of project-specific priorities and procedures, and detailed consultation requirements for interaction with other community providers. We considered proposing to require detailed documentation of case planning for individual clients. Some of these ideas were suggested in our consultative process. However, in keeping with one of the overarching principles we heard through consultation, that the standards of any kind—whether performance or procedural—should facilitate rather than impede local flexibility in creating and operating effective programs that respond to local needs and priorities, we do not include them. They involve processes that need to remain flexible to adjust to local or client circumstances, could result in potentially burdensome record-keeping or reporting, possibly divert scarce staff resources, or lead to other potential problems.

We welcome comments on whether there is substantial evidence that these or any other requirements not proposed here would improve program outcomes, either overall or for each type of grant, at reasonable effort and cost. We also request comment on whether placing either the standards we propose or additional standards in funding announcements rather than in codified regulations would allow sufficient flexibility to grantees or would hinder our ability to use targeted initiatives to improve program practices.

Under paragraph (a), we propose revising the language requiring grantees to participate in technical assistance and training in order to allow flexibility in which techniques will be used, and propose clarifying that grantees must also accept monitoring. We propose to expand this list considerably from the list in the current regulation. This list reflects primarily the evolution and expansion over the years of the training and technical assistance program, and the items listed are all conducted currently under the program. Requirements we propose to add are core competencies for youth workers, core support services, cultural and linguistic diversity, background checks, and ethics and staff safety. In particular and reflecting current program priorities, we propose positive youth development as a priority area for training or technical assistance. Under our proposal, grantees shall participate in technical assistance or short-term training as a condition of funding, as determined necessary by HHS, in areas such as, but not limited to:

• Aftercare services or counseling;

• Background checks;

• Core competencies of youth workers;

• Core support services;

• Crisis intervention techniques;

• Cultural and linguistic diversity;

• Development of coordinated networks of private nonprofit agencies and/or public agencies to provide services;

• Ethics and staff safety;

• Fiscal management;

• Low cost community alternatives for runaway or otherwise homeless youth;

• Positive youth development;

• Program management;

• Risk and Protective Factors related to youth homelessness;

• Screening and assessment practices

• Shelter facility staff development;

• Special populations (tribal youth; lesbian, gay, bisexual, and transgender youth; youth with disabilities; youth victims of trafficking, sexual exploitation or sexual abuse),

• Trauma and the effects of trauma on youth;

• Use of evidence-based and evidence-informed interventions;

• Youth and family counseling; and

• Confidentiality policies and protocols.

We request comments on the expanded list of subjects. This is a substantial addition but one that we believe is useful to reflect the current set of policy and program priorities as set forth in the Act and in the program solicitations and management improvements that have been made in the overall program in recent years. Virtually all of these proposed provisions are derived from specific statutory mandates, and are already part of standard operating procedures. Many participants in our consultative process also suggested most of these items, reflecting the general consensus as to their importance in operating effective services.

Under paragraph (b), we propose minor technical revisions to update the existing provision requiring coordination with the National Runaway Safeline. Under our proposal, grantees shall coordinate their activities with the 24-hour national toll-free communication system, which links runaway and homeless youth projects and other service providers with runaway or otherwise homeless youth, as appropriate to the specific activities provided by the grantee. At present, this system is called the National Runaway Safeline, its Web site is www.1800runaway.org, and the toll-free number is 1-800-RUNAWAY.

Under paragraph (c), we also propose a technical revision to the reporting provision to require grantees to submit statistical reports that profile the clients served and that provide management and performance information in accordance with guidance provided by HHS. Such data submission is handled for services programs through the Runaway and Homeless Youth Management Information System (RHYMIS), which is described in detail at https://www.acf.hhs.gov/programs/fysb/rhymis. RHYMIS has been a major innovation and improvement tool in program data collection, but from a regulatory perspective updating the regulatory reference is a minor change. The existing rule quotes specific statutory language in place when the rule was written. The Act now contains additional requirements (see in particular sections 312(b)(7) and (8), and section 322(a)(9)). For example, it explicitly states that runaway and homeless youth projects “shall keep adequate statistical records profiling the youth and family members whom it serves,” that grantees “shall submit annual reports to the Secretary detailing how the center has been able to meet the goals of its plans,” and that grantees shall submit “statistical summaries describing . . . the number and characteristics of the runaway and homeless youth . . . who participate . . . and the services provided to such youth.” We propose to review this section to require appropriate reporting and to delete specific quotations from the Act.

In its final stage, this rule may impose additional requirements if the rulemaking process or other information leads us to decide that RHYMIS could be improved or expanded. We welcome comments on RHYMIS.

We propose adding a new regulatory requirement for outreach for the three major grant programs. Outreach is a key statutory requirement of these programs. We propose in paragraph (d) that grantees shall perform outreach to locate runaway and homeless youth and youth at risk of running away or becoming homeless, and to coordinate activities with other organizations serving the same or similar clients. We request comments on this new requirement.

Particular attention is needed for clients who may have fled foster care or a correctional program. It also is important that runaway and homeless youth projects not be used as a substitute for services that these or other programs are legally obliged to provide. We are especially interested in comments on the following two proposed requirements. First, under paragraph (e) we propose that grantees shall develop and implement a plan for addressing youth who have run away from foster care placement or correctional institutions, and for returning those youth appropriately to the responsible organizations, in accordance with Federal, State, or local laws that apply to these situations.

Second, under paragraph (f) we propose that grantees shall take steps to ensure that youth who are under the legal jurisdiction of the juvenile justice or child welfare systems receive services from those systems until such time as they are released from the jurisdiction of those systems. The purpose of these provisions is to provide a clear demarcation between services that are the legal and financial responsibility of other programs, and services that are the responsibility of the Runaway and Homeless Youth Program. Because the availability of Federal funds varies among programs, and where Federal funds are available the matching rates usually vary, other State and local agencies have financial incentives to blur these responsibilities. We strongly encourage grantees to take steps prevent other programs from displacing their costs onto these programs while also providing continuous service to youth.

Additionally, we propose three provisions focusing on the need to serve youth outside the program. They are found in existing funding opportunity announcements. Under proposed paragraph (g), grantees shall develop and implement an aftercare plan covering at least 6 months to stay in contact with clients who leave the program in order to ensure their ongoing safety. A youth's individual aftercare plan shall outline what services were provided, including appropriate referrals for needed health care services, the youth's housing status, and the rate of participation and completion of the services in the plan at 3 months and at 6 months after exiting the program. In paragraph (h), grantees shall develop and implement a plan for health care services referrals for youth. Under proposed paragraph (i), grantees shall assist youth to stay connected with their schools or to obtain appropriate educational services. This includes coordination with McKinney-Vento school district liaisons, designated under the McKinney-Vento Homeless Assistance Act, to assure that runaway and homeless youth are provided information about the services available under that statute. Under that law, which is the primary piece of Federal legislation dealing with the education of homeless children in U.S. public schools, school districts are required to provide equal access to the same free, appropriate public education provided to other children and youth and to undertake additional steps as needed for such access. For example, school districts must identify potential barriers to the education of homeless youth, and homeless youth may not be segregated from other students.

The Act, at sections 312(b)(13) and 322(a)(16), specifically requires grantees to develop emergency plans. We propose to adopt this requirement under paragraph (j) by requiring that grantees develop and document plans that address steps to be taken in case of a local or national situation that poses risk to the health and safety of staff and youth. Emergency preparedness plans should, at a minimum, include routine preventative maintenance of facilities (e.g. fire extinguishers and alarms checked, furnace serviced) as well as preparedness, response, and recovery efforts. The plan should contain strategies for addressing evacuation, security, food, medical supplies, and notification of youths' families. In the event of an evacuation due to specific facility issues, such as a fire, loss of utilities, or mandatory evacuation by the local authorities, an alternative location needs to be designated and included in the plan. Grantees must immediately provide notification to their Family and Youth Service Bureau project officer and grants officer when evacuation plans are executed.

The Runaway and Homeless Youth Program does not assure or attempt to assure that its grantees meet any of the hundreds of State or local laws or regulations or other requirements that may apply to grantees or to individual staff members. That is the responsibility of State or local agencies charged with enforcing those requirements. The operation of shelters, however, is such an integral part of the program and in some instances the location of shelters so controversial that we believe it prudent as a condition of grant award to require that grantees shall ensure that all shelters that they operate are licensed where that is required, and determine that any shelters to which they regularly refer clients have evidence of current licensure, if licensure is applicable to shelters of that type. We add this requirement under proposed paragraph (k). We do not mean by this language to suggest that grantees must independently verify particular conditions imposed as a condition of licensure at facilities to which they refer clients (that is the responsibility of the State or local officials who make licensure decisions), but simply that grantees must determine that such shelters have a current license where one is required. Of course, grantee-operated facilities also are responsible to State or local authorities for meeting any requirements, whether required for licensure or not, imposed by those authorities as a condition of operation. Failure to meet any applicable State or local legal requirements as a condition of operation may be grounds for grant termination.

Under paragraph (l), we propose to require that all employees be subject to a broad range of background checks for criminality and suitability (see the definition of background check). We also propose to require that host homes be subject to criminal and child abuse checks. We believe that current methods of obtaining background checks are reasonably simple, straightforward, and inexpensive. These policies are already operational and a requirement in the Funding Opportunity Announcement. We welcome comments on any potential problems with the proposed requirement and with any suggestions as to improving its scope.

Positive youth development (PYD) has been a central framework of the program for years. PYD emphasizes:

• Healthy messages to adolescents about their bodies, behaviors, interpersonal relationships, and interaction;

• Safe and structured places for teens to study, recreate, and socialize;

• Strong relationships with adult role models;

• Skill development in literacy competence, work readiness, and social skills; and

• Opportunities for youth to serve others and build self-esteem.

Runaway and homeless youth projects that adopt these principles provide the youth they serve with opportunities for positive use of time, for positive self-expression and self-development, and for constructive civic and social engagement. Accordingly, we propose under paragraph (m) to require PYD on a program-wide basis. Under this paragraph, grantees shall utilize and integrate into the operation of their projects the principles of positive youth development, including healthy messages, safe and structured places, adult role models, skill development, and opportunities to serve others.

As previously discussed in this preamble, there are numerous other possible requirements that could be included in the final rule. For example, we could require certain kinds of staff training. We do not propose such additional requirements for three reasons. First, it is difficult to craft requirements that do not unduly constrain grantee flexibility by imposing a “one size fits all” approach that does not in fact reasonably apply to particular grantees or particular situations or particular staff. Second, such requirements almost by necessity create burdens, e.g. for recordkeeping or reporting to demonstrate that grantees meet the requirement. Third, there is an alternative mechanism in the form of funding opportunity announcements. These announcements provide the flexibility to add particular requirements (including temporary priorities) without going through a rulemaking process and, more importantly, allow far more flexibility than codified rules normally allow. For example, the 2013 funding opportunity announcement for the Basic Center Program (http://www.acf.hhs.gov/grants/open/foa/view/HHS-2013-ACF-ACYF-CY-0575) gives examples of practices to follow or services that agencies can provide, all flexibly described. This language allows grantees the option to provide most but not all of these services. This would allow, for example, for the situation in which some other agency provides a key service and the grantee can use referral arrangements. Particularly in a program dealing with such complex problems, and given the extreme variation in service availability from other providers in particular localities, we believe that funding opportunity announcements are often a superior vehicle for encouraging certain practices.

To this end, we propose to add at paragraph (n) that grantees provide such other services and meet such additional requirements as the Department of Health and Human Services determines are necessary to carry out the purposes of the statute, as appropriate to the services and activities for which they are funded. These services and requirements are articulated in the funding opportunity announcements and other instructions issued by the Secretary or secretarial designees. This includes operational instructions and standards of execution determined by the Secretary or secretarial designees to be necessary to properly perform or document meeting the requirements applicable to particular programs or projects.

In addition to the requirements all RHY grantees must meet, there are additional requirements specific to each of the three core RHY programs which stem from the Act and the unique purposes of each program.

We propose to create a new section § 1351.21 “What are the additional requirements that the Basic Center Program grantees must meet?”. There are four additional program specific requirements that are central to the purposes of the Basic Center Program. First, under proposed paragraph (a) all Basic Center grantees shall have an intake procedure that is available 24 hours a day and 7 days a week to all youth seeking services and temporary shelter. The intake process must, at all hours, enable staff to address and respond to young people's immediate needs for crisis counseling, food, clothing, shelter, and health care services. The second proposed requirement under paragraph (b), describes the largest and arguably most important function described under the Act for Basic Center grantees, requiring that grantees shall provide, either directly or through arrangements, access to temporary shelter 24 hours a day and 7 days a week. Any grantee that did not provide temporary living services to eligible youth would not be meeting an essential function of the program (section 311(a)(2) of the Act). Note that this requirement allows for a combination of facilities that are directly operated by the grantee, operated by others, or accessible through referral. Third, under paragraph (c), we propose to require that Basic Center grantees provide case management, counseling and referral services that meet client needs and that encourage when in the best interests of youth particularly with regard to safety, the involvement of parents or legal guardians. Under paragraph (d), we propose to require that grantees provide additional core support services to clients both residentially and non-residentially, as appropriate. The core services must include case planning, skill building, recreation and leisure activities, and aftercare. Again, this is an essential function of the program and codification does not require changes in program operations. Under paragraph (e), we propose to require that grantees make contact with the parent(s), legal guardian or other relatives of the youth within 72 hours of entering the program with a “best interest of the youth” exception allowed for disclosure of the location if additional information is needed to ensure the safety of the youth. The “best interest of the youth” would be defined by the State child welfare legal requirements with respect to child protective services and law enforcement mandatory reporting. Finally, under paragraph (f), we propose to include grantees be subject to any additional requirements that are included in the annual funding opportunity announcement (FOA).

We also propose a new section § 1351.22 “What are the additional requirements that the Transitional Living Program and Maternity Group Home grantees must meet?” to include specific requirements for core services to be provided by the programs. Under paragraph (a), we would require that grantees provide transitional living arrangements and additional core services including case planning/management, counseling, skill building, consumer education, referral to social and health care services, and education, recreation and leisure activities, aftercare and, as appropriate, parenting skills, child care, and child nutrition. Note that this language requires for Maternity Group Home grantees a focus on parenting skills, childcare, and child nutrition. Additionally, under paragraph (b), we require that TLP and MCP grantees be subject to any additional requirements included in the funding opportunity announcement.

We propose to create a new section § 1351.23 “What are the additional requirements that the Street Outreach Program grantees must meet?”. The proposed requirements are specific to the purposes of the Street Outreach program. We propose under paragraph (a) to require that SOP grantees provide services designed to assist clients in leaving the streets, in making healthy choices, and in building trusting relationships in areas where targeted youth congregate. Under paragraph (b), we require SOP grantees provide directly or by referral other core services to their clients. Finally, under paragraph (c), we require that SOP grantees be subject to any additional requirements included in the funding opportunity announcement.

We request comments on each of these proposed provisions and suggestions for deletions or additions. We believe that each is clearly justified by the Act and by recent and current priorities for programs conducted under the Act. We are particularly interested in suggestions for additions that would directly and substantially further the purposes of these programs without unduly limiting flexibility on the part of grantees or creating substantial new paperwork or reporting requirements.

Subpart D—What Are the Runaway and Homeless Youth Program-Specific Standards?

In addition to requirements that apply to all Runaway and Homeless Youth programs, the Department proposes to establish a new Subpart that creates specific standards for each major type of local services grant, with a focus on performance-based standards. These new performance standards were mandated by the Act, as amended by the Reconnecting Homeless Youth Act of 2008. Performance standards focus directly on program goals and create or use criteria that either measure goal attainment or are close proxies to meeting the goal. In addition, for each program, we propose standards encompassing core functions and services that are essential for success in that program. We believe the performance standards can best be organized by building upon four core outcomes based on research which indicates that improvements on risk and protective factors can serve as pathways to get to better outcomes in social and emotional well-being, permanent connections, education or employment, and stable housing.7 8 9 These four core outcomes are expected to lead to healthy and productive transitions to adulthood for homeless youth in the following ways:

(1) Social and Emotional Well-being includes the development of key competencies, attitudes, and behaviors that equip a young person experiencing homelessness to avoid unhealthy risks and to succeed across multiple domains of daily life, including school, work, relationships, and community; (2) Permanent connections include ongoing attachments to families or adult role models, communities, schools, and other positive social networks which support young people's ability to access new ideas and opportunities that support thriving and they provide a social safety net when young people are at-risk of re-entering homelessness; (3) Education or employment includes high performance in and completion of educational and training activities, especially for younger youth, and starting and maintaining adequate and stable employment, particularly for older youth. Achievements in education and employment increase a youth's capacity to support himself or herself and avoid future homelessness; and (4) Stable housing includes a safe and reliable place to call home. Stable housing fulfills a critical and basic need for homeless youth. It is essential to enabling functioning across a range of life activities.

⁷ Kidd, S., & Shahar, G. (2008). Resilience in homeless youth: The key role of self-esteem. American Journal of Orthopsychiatry, 78 (2), 163.

⁸ Milburn, N. G., Jane Rotheram-Borus, M., Batterham, P., Brumback, B., Rosenthal, D., & Mallett, S. (2005). Predictors of close family relationships over one year among homeless young people. Journal of Adolescence, 28(2), 263-275.

⁹ Milburn, N., Liang, L., Lee, S., Roteram-Borus, M., Rosenthal, D., Mallett, S., et al. (2009). Who is doing well? A typology of newly homeless adolescents. Journal of Community Psychology, 37 (2), 135-147.

We do not propose to establish such standards for grants for research, evaluation, demonstration and service projects; grants for a national communications system to assist runaway and homeless youth in communicating with their families and service providers; and grants for technical assistance and training.

The consultative process involved extensive discussion of potential performance standards. During the consultation process, the participants looked at current practices and discussed minimum expectations versus exceptional service. For example, the participants of the consultation process discussed appropriate methods for notifying parents and legal guardians when a young person enters a shelter: Telephone, email or other types of communication. The best method for parent/guardian notification depends on grantees' technological capacity, community expectations, and other factors. For that reason, the standard should focus on the timing of the notification and not the methods to ensure that grantees with various communication systems can achieve the standard.

Basic Center Program Standards

We propose a new § 1351.30 for Basic Center Grantees. For these grantees we propose under paragraph (a) that grantees must contact the parent(s), legal guardian or other relatives of clients within 72 hours of entering the program to inform them that the youth is safe, with a determination to be made on a case-by-case basis of whether it is in the best interests of the youth to notify the parent(s), legal guardian or other relatives of the location of the youth until further information has been gathered to assure safety. Under paragraph (b), we propose to require grantees shall maintain at 90 percent or higher the proportion of youth transitioning to safe and appropriate settings when exiting Basic Center Program services. Paragraph (c) proposes that grantees shall ensure that youth have received appropriate counseling services informed by screening and assessment of each youth's psychosocial strengths and needs. Data shall be reported by each grantee on the type of counseling each youth received (individual, family and/or group counseling), the participation rate based on a youth's service plan or treatment plan, and the completion rate based on a youth's service plan or treatment plan. Under paragraph (d), we propose that grantees that choose to provide street-based services, home-based services, drug and/or alcohol abuse education and prevention services, and/or testing for sexually transmitted diseases (at the request of the youth) shall ensure youth receive the appropriate services informed by screening and assessment of each youth's strengths and needs. Data shall be reported on the completion rate for each service provided based on the youth's service plan or treatment plan.

These performance standards both involve critical and measurable program objectives. The first standard requires parental contact (if feasible, of course) within 72 hours. We encourage contact within 24 hours. The second requires that these centers achieve 90 percent or higher the proportion of youth living in safe and appropriate settings immediately after exiting Basic Center Program services. We note that RHYMIS data show that on average, grantees have achieved a 92 percent success rate under the second measure. We welcome specific comment on these standards. Proposed paragraph (c) emphasizes the statutory requirement for counseling services and outlines specific data to be reported. Proposed paragraph (d) outlines specific data to be reported for services grantees may choose to provide based on the statute.

In addition to these proposed measures, we welcome comment on measures for the Basic Center Program that will demonstrate youth outcomes post-exit.

Transitional Living Program Standards

We propose to add a new section § 1351.31 for Transitional Living Programs (including Maternity Group Homes). Under paragraph (a), we propose to require as performance standards that grantees maintain at 90 percent or higher the proportion of youth transitioning to safe and appropriate settings when exiting Transitional Living Program services. Under paragraph (b), we propose that grantees maintain at 45 percent or higher the proportion of youth who are engaged in community service and service learning activities while in the program. In proposed paragraph (c), grantees shall ensure youth are engaged in educational advancement, job attainment skills or work activities while in the program. In proposed paragraph (d), grantees shall ensure and report that youth receive health care services as determined within their health care referral plan. Finally, under proposed paragraph (e), MGH grantees shall ensure and report that youth receive consistent pre-natal care, well-baby exams, and immunizations for the infant while in the program. We note that grantees achieved an 86 percent success rate on average in FY 2007 under the safe exit measure. Additionally, we note that grantees achieved a 42 percent success rate on average in FY 2007 under the engagement measure. We believe that these standards are readily achievable by well-run programs.

We welcome specific suggestions for improvements to these standards. In addition to these proposed measures, we welcome comment on measures for the Transitional Living Program that will demonstrate youth outcomes post-exit.

Street Outreach Program Standards

We propose to add a new § 1351.32 for the Street Outreach Program. Creating a reasonably achievable performance measure for this program is difficult because of the circumstances under which it operates (e.g., meeting youth in unstructured street situations). As currently stated in the Onsite Review Protocol: Runaway and Homeless Youth Programs (at http://www.acf.hhs.gov/programs/fysb/content/docs/rhy_review_protocol/index.htm but subject to future change), in its section on performance standards, the “Street Outreach Program provides services to youth under circumstances that make a straightforward adaptation of some of the elements of the performance standards impractical” (Introduction, page 3).

We are, however, considering requiring the following approach: The most important activity under this program is simply contacting street youth, and we already collect data on the total number of contacts (counting a youth contacted twice as two contacts). Accordingly, we propose as a performance measure the number of total contacts made by the project, giving the projects credit for repeatedly reaching youth. A “contact” is the engagement between Street Outreach Program staff and homeless youth in need of services that could reasonably lead to shelter or significant harm reduction. FYSB is open to public comment on the proposed definition. This measure has the defect of potential unreliability, and it is difficult to set an actual numeric standard that would not unfairly penalize smaller grantees. Unlike our proposed performance standards for the other programs there is no denominator against which to calculate a percentage. Nonetheless, we propose to use the total number of contacts with homeless or runaway youth as a performance measure, but not to set a numeric standard at this time. An alternative might be to use the percent of youth contacted that accept shelter or other services—such as referrals, family reunification services, conflict resolution, or mediation counseling, and case management—as a performance standard. We welcome comment on these options and suggestions for other alternatives.

We request comments on the proposals for all three programs and recommendations for alternatives. We do not propose performance standards for technical assistance and other grants that do not provide direct services. We do not believe that support grants such as these lend themselves to across-the-board, outcome-oriented performance standards such as those proposed here. We opt to include benchmarks in some of the proposed performance standards, those where historic data exists to allow for a reasonable benchmark to be set, rather than leaving it to the funding opportunity announcement or other guidance mechanism.

We propose to create a new section § 1351.33 “How and when will performance standards for the Runaway and Homeless Youth Program be revised?”. For those performance standards for which benchmarks are not set within this Notice of Proposed Rulemaking, benchmarks will need to be set in the coming years as data are collected. Additionally, as grantees improve performance, it will be necessary to adjust the benchmark on a given performance standard in the coming years. Furthermore, as more is learned about how to improve outcomes, performance standards themselves may need to be modified or added. The Notice of Proposed Rulemaking (NPRM) process takes a considerable amount of time and is not conducive to on-going adjustments. Therefore, in order to ensure that performance standards as well as the benchmarks set within a given performance standard keep pace with improvements grantees are able to make over time, we are proposing that the Secretary may, based upon available program data, add, amend, or suspend performance standards and/or benchmark levels when appropriate. All performance standards and benchmark levels will be consistent with the performance standards provision in the most current reauthorization of the Runaway and Homeless Youth Act and will relate to one or more four core outcomes: Social and emotional well-being; permanent connections; education or employment; and/or stable housing. Notification to grantees shall be given in advance of the revision through a public notification mechanism such as a funding opportunity announcement, policy guidance or other appropriate means. We welcome comment on how performance standards and benchmarks can be set and/or adjusted in a timely, yet transparent and public, manner.

We propose to create a new section § 1351.34 “When Are Program-Specific Requirements Effective?”. After we review public comments, the Department will make final decisions on these proposed requirements and will then issue a final rule. Normally, a final rule contains a date section with language such as this: These final regulations are effective on June 13, 2014. We intend to use this standard approach. We also are proposing in § 1351.34, for the local services program specific requirements, specific language that would delay the actual imposition of those requirements until the beginning of the next budget period. We propose that grantees shall meet program specific requirements, as applicable, upon the effective date of those requirements, or starting at the beginning of the next budget period for the grant, whichever comes later. Since most budget periods begin on October 1 of each year, this means that grantees would have however many days there are between the issuance of final regulations and that date, but never less than 60 days. The purpose of this delay is threefold. First, it avoids the need to assess performance over a fraction of a grantee's annual budget period, i.e. over a fraction of a year, but instead uses a full year of performance as the standard for assessment. Second, it facilitates comparisons among grantees, by using a full year of performance as uniform basis for comparison. Third, and most important, it provides time for grantees to prepare for these requirements, and for the Family and Youth Services Bureau (FYSB) to provide technical assistance and training to assist them. We appreciate that some grantees, particularly TLP grantees, operate on more staggered schedules and will have less time than others. We would expect to target early help on those facing the shortest deadlines. We welcome comments on this proposed approach and suggestions for alternatives.

VII. Impact Analysis

Paperwork Reduction Act

This proposed rule contains no new information collection requirements. We note that the existing RHYMIS information collection system has been renewed through FY 2013. We request comments on whether anything in this rule should, if adopted, suggest a change in RHYMIS. In particular, we want to be sure that RHYMIS reflects all performance standards in any future revision. We also welcome comments on technical or implementation changes in RHYMIS that might facilitate measurement of performance or otherwise assist in achieving higher performance.

Regulatory Flexibility Act

The Secretary certifies that this proposed rule will not result in a significant economic impact on a substantial number of small entities. We have not proposed any new requirements that would have such an effect. Our proposed standards would almost entirely conform to the existing statutory requirements and existing practices in the program. In particular, we have proposed imposing only a few new process, procedural, or documentation requirements that are not encompassed within the existing rule, existing funding opportunity announcements, or existing information collection requirements. None of these would impose a consequential burden on grantees. Accordingly, an Initial Regulatory Flexibility Analysis is not required.

Regulatory Impact Analysis

Executive Order 12866 requires that regulations be reviewed to ensure that they are consistent with the priorities and principles set forth in the Executive Order. The Department has determined that this rule is consistent with these priorities and principles. The Executive Order requires a Regulatory Impact Analysis for proposed or final rules with an annual economic impact of $100 million or more. Nothing in this proposed rule approaches effects of this magnitude. Nor does this proposed rule meet any of the other criteria for significance under the Executive Order. This proposed rule has been reviewed by the Office of Management and Budget.

Congressional Review

This proposed rule is not a major rule (economic effects of $100 million or more) as defined in the Congressional Review Act.

Federalism Review

Executive Order 13132, Federalism, requires that Federal agencies consult with State and local government officials in the development of regulatory policies with federalism implications. This rule will not have substantial direct impact on the States, on the relationship between the National Government and the States, or on the distribution of power and responsibilities among the various levels of government. Therefore, in accordance with the Executive Order we have determined that this rule does not have sufficient federalism implications to warrant the preparation of a federalism summary impact statement.

Family Impact Review

Section 654 of the Treasury and General Government Appropriations Act of 1999 (Pub. L. 105-277) requires Federal agencies to issue a Family Policymaking Assessment for any rule that may affect family well-being. This proposed rule would not have any new or adverse impact on the autonomy or integrity of the family as an institution. Like the existing rule and existing program practices, it directly supports family well-being. Since we propose no changes that would affect this policy priority, we have concluded that it is not necessary to prepare a Family Policymaking Assessment.

List of Subjects in 45 CFR 1351

Administrative practice and procedure, Grant programs—Social programs, Homeless, Reporting and recordkeeping requirements, Technical assistance, Youth.

(Catalog of Federal Domestic Assistance Program Numbers 93.550, Transitional Living for Homeless Youth; 93.557, Education and Prevention Grants to Reduce Sexual Abuse of Runaway, Homeless and Street Youth; and 93.623, Basic Center Grants for Runaway Youth)

Dated: April 4, 2014.
Mark Greenberg,
Acting Assistant Secretary for Children and Families.
Approved: April 7, 2014.
Kathleen Sebelius,
Secretary.

For the reasons set out in the preamble, title 45 CFR Part 1351 is proposed to be amended as follows:

PART 1351—RUNAWAY AND HOMELESS YOUTH PROGRAM

1. The authority citation for part 1351 continues to read as follows:

Authority: 42 U.S.C. 5701.

Subpart A—Definition of Terms

2. Revise § 1351.1 to read as follows:

§ 1351.1 Significant Terms.

For the purposes of this part:

Act means the Runaway and Homeless Youth Act as amended, 42 U.S.C. 5701 et seq.

Aftercare means additional services provided beyond the period of residential stay that offer continuity and supportive follow-up to youth served by the program.

Background check means the review of an individual employee's or employment applicant's personal information, which shall include verification of educational credentials and employment experience, as well as a national examination of the individual's criminal records, and an examination of the individual's driving records, licensing records, and child abuse or neglect history. Volunteers who come into contact with children and youth served or proposed to be served by the agency must also undergo a background check.

Budget period means the interval of time into which a multi-year period of assistance (project period) is divided for budgetary and funding purposes.

Case management means assessing the needs of the client and, as appropriate, arranging, coordinating, monitoring, evaluating, and advocating for a package of services to meet the specific needs of the client.

Client means a runaway, homeless, or street youth, or youth at risk of running away or becoming homeless, who is served by a program grantee.

Congregate care means a shelter type that combines living quarters and restroom facilities with centralized dining services, shared living spaces, and access to social and recreational activities.

Contact means the engagement between Street Outreach Program staff and homeless youth in need of services that could reasonably lead to shelter or significant harm reduction.

Core competencies of youth worker means the ability to demonstrate skills in six domain areas:

(1) Professionalism (including, but not limited to, consistent and reliable job performance, awareness and use of professional ethics to guide practice);

(2) Applied positive youth development approach (including, but not limited to, skills to develop a positive youth development plan and identifying the client's strengths in order to best apply a positive youth development framework);

(3) Cultural and human diversity (including, but not limited to, gaining knowledge and skills to meet the needs of clients of a different race, ethnicity, nationality, religion/spirituality, gender identity/expression, sexual orientation);

(4) Applied human development (including, but not limited to, understanding the needs of those at risk and with special needs);

(5) Relationship and communication (including, but not limited to, working with clients in a collaborative manner); and

(6) Developmental practice methods (including, but not limited to, utilizing methods focused on genuine relationships, health and safety, intervention planning).

Counseling services means the provision of guidance, support, referrals for services including, but not limited, to health services, and advice to runaway or otherwise homeless youth and their families, as well as to youth and families when a young person is at risk of running away. These services are designed to alleviate the problems that have put the youth at risk of running away or contributed to his or her running away or being homeless.

Drop-in center means a place operated and staffed for runaway or homeless youth that clients can visit without an appointment to get advice or information, to receive services or service referrals, or to meet other runaway or homeless youth.

Drug abuse education and prevention services means services to prevent or reduce drug and/or alcohol abuse by runaway and homeless youth, and may include:

(1) Individual, family, group, and peer counseling;

(2) Drop-in services;

(3) Assistance to runaway and homeless youth in rural areas (including the development of community support groups);

(4) Information and training relating to drug and/or alcohol abuse by runaway and homeless youth to individuals involved in providing services to such youth; and

(5) Activities to improve the availability of local drug and/or alcohol abuse prevention services to runaway and homeless youth.

Health care services means physical, mental, behavioral and dental health services and, in the case of Maternity Group Homes mean those provided to the child of the youth; and where applicable and allowable within a program, family or household members of the youth shall receive information on appropriate health related services.

Home-based services means services provided to youth and their families for the purpose of preventing such youth from running away or otherwise becoming separated from their families and assisting runaway youth to return to their families. It includes services that are provided in the residences of families (to the extent practicable), including intensive individual and family counseling and training relating to life skills and parenting.

Homeless youth means an individual who cannot live safely with a parent, guardian or relative, and who has no other safe alternative living arrangement. For purposes of Basic Center Program eligibility, a homeless youth must be less than 18 years of age (or higher if allowed by a State or local law or regulation that applies to licensure requirements for child- or youth-serving facilities). For purposes of Transitional Living Program eligibility, a homeless youth cannot be less than 16 years of age and must be less than 22 years of age (unless the individual commenced his or her stay before age 22, and the maximum service period has not ended).

Host family home means a family or single adult home that provides shelter to a homeless youth.

Intake means a process for gathering information to assess eligibility and the services required to meet the immediate needs of the client.

Juvenile justice systems, institutions, or authorities means agencies that include, but are not limited to, juvenile courts, correctional institutions, detention facilities, law enforcement, training schools, or agencies that use probation, parole, and/or court ordered confinement.

Maternity group home means a community-based, adult-supervised transitional living arrangement where client oversight is provided on site or on-call 24 hours a day and that provides pregnant or parenting youth and their children with a supportive environment in which to learn parenting skills, including child development, family budgeting, health and nutrition, and other skills to promote their long-term economic independence and ensure the well-being of their children.

Outreach means finding runaway, homeless and street youth, or youth at risk of becoming runaway or homeless, who might not use services due to lack of awareness or active avoidance, providing information to them about services and benefits, and encouraging the use of appropriate services.

Risk and protective factors mean those factors that are measureable characteristics of a youth that can occur at multiple levels, including biological, psychological, family, community, and cultural levels, that precede and are associated with an outcome. Risk factors are associated with higher likelihood of problem outcomes, and protective factors are associated with lower likelihood of problem outcomes.

Runaway youth means an individual under 18 years of age who absents himself or herself from home or place of legal residence without the permission of a parent or legal guardian.

Runaway and homeless youth project means a community-based program outside the juvenile justice or child welfare systems that provides runaway prevention, outreach, shelter, and transition services to runaway, homeless, or street youth or youth at risk of running away or becoming homeless.

Safe and Appropriate Settings When Exiting Basic Center Program Services or Transitional Living Program Services means settings that reflect achievement of the intended purposes of the Basic Center and Transitional Living programs as outlined in section 382(a) of the Act. Safe and Appropriate Settings When Exiting Basic Center Program Services or Transitional Living Program Services are not exits:

(1) To another shelter;

(2) To the street;

(3) To a private residence, other than a youth who is staying stably with family, if the youth is not paying rent;

(4) To another residential program if the youth is not paying rent or if the youth's transition to the other residential program was unplanned;

(5) To a correctional institute or detention center if the youth became involved in activities that lead to this exit after entering the program;

(6) To an unspecified other living situation; or

(7) To a living situation that is not known.

Screening and assessment means standardized instruments and practices used to validly and reliably identify each youth's individual strengths and needs across multiple aspects of health, wellbeing and behavior in order to inform appropriate service decisions and provide a baseline for monitoring outcomes over time. Screening involves brief instruments, for example with trauma and health problems, which can indicate certain youth for more thorough diagnostic assessments and service needs. Assessment, which is used here to mean assessment more broadly than for the purposes of diagnosis, involves evaluating multiple aspects of social, emotional, and behavioral competencies and functioning in order to inform service decisions and monitor outcomes.

Service plan or treatment plan means a written plan of action based on the assessment of client needs and strengths and engaging in joint problem solving with the client that identifies problems, sets goals, and describes a strategy for achieving those goals. To the extent possible, the plan should incorporate the use of evidence-based or evidence-informed interventions.

Short-term training means the provision of local, State, or regionally-based instruction to runaway or otherwise homeless youth service providers in skill areas that will directly strengthen service delivery.

Street youth means an individual who is a runaway youth or an indefinitely or intermittently homeless youth who spends a significant amount of time on the street or in other areas that increase the risk to such youth for sexual abuse, sexual exploitation, prostitution, or drug and/or alcohol abuse. For purposes of this definition, youth means an individual who is age 21 or less.

State means any State of the United States, the District of Columbia, the Commonwealth of Puerto Rico, the Commonwealth of the Northern Mariana Islands, and any territory or possession of the United States.

Supervised apartments means a type of shelter setting using building(s) with separate residential units where client supervision is provided on site or on call 24 hours a day.

Technical assistance means the provision of expertise or support for the purpose of strengthening the capabilities of grantee organizations to deliver services.

Temporary shelter means all shelter settings in which runaway and homeless youth are provided room and board, crisis intervention, and other services on a 24-hour basis for up to 21 days.

3. Revise the Subpart B heading to read as follows:

Subpart B—Runaway and Homeless Youth Program Grants

4. Revise § 1351.10 to read as follows:

§ 1351.10. What is the purpose of Runaway and Homeless Youth Program grants?

The purpose of Runaway and Homeless Youth program grants is to establish or strengthen community-based projects to provide runaway prevention, outreach, shelter, and transition services to runaway, homeless, or street youth or youth at risk of running away or becoming homeless. Youth who have become homeless or who leave and remain away from home without parental permission are disproportionately subject to serious health, behavioral, and emotional problems. They lack sufficient resources to obtain care and may live on the street for extended periods, unable to achieve stable safe living arrangements and at times putting themselves in danger. Many are urgently in need of shelter, which, depending on the type of runaway and homeless youth project, can include host family homes, drop-in centers, congregate care, or supervised apartments, and services, including services that are linguistically appropriate, responsive to their complex social identities (i.e., race, ethnicity, nationality, religion/spirituality, gender identity/expression, sexual orientation, socioeconomic status, physical ability, language, beliefs, values, behavior patterns, or customs), and acknowledge the environment they come from. Runaway and Homeless Youth grant services should take a positive youth development approach that ensures a young person a sense of safety and structure; belonging and membership; self-worth and social contribution; independence and control over one's life; skills to develop plans for the future and set goals; and closeness in interpersonal relationships. To make a successful transition to adulthood, runaway youth, homeless youth, and other street youth also need opportunities to complete high school or earn a general equivalency degree, learn job skills, and obtain employment. HHS operates three programs to carry out these purposes through direct local services: The Basic Center Program; the Transitional Living Program (including Maternity Group Homes); and the Street Outreach Program. HHS operates three additional activities to support achievement of these purposes: Research, evaluation, and service projects; a national communications system to assist runaway and homeless youth in communicating with service providers; and technical assistance and training.

5. Revise § 1351.11 to read as follows:

§ 1351.11 Who is eligible to apply for a Runaway and Homeless Youth Program grant?

Public (State and local) and private non-profit entities, and coordinated networks of such entities, are eligible to apply for a Runaway and Homeless Youth Program grant unless they are part of the law enforcement structure or the juvenile justice system.

6. Revise § 1351.12 to read as follows:

§ 1351.12 Who gets priority for the award of a Runaway and Homeless Youth Program grant?

In making Runaway and Homeless Youth Program grants to existing grantees, prior experience shall be weighed along with performance; therefore the Secretary or the Secretary's designee gives priority to those public or private agencies that have performed highly in comparison to other agencies receiving grants in past years, both in meeting applicable performance standards and in complying with applicable conditions of grant award or execution required under these regulations or under funding opportunity announcements. In making awards to new applicants or to existing grantees seeking to expand to a new service area, consideration will be given to the likelihood that the applicant or grantee will be able to meet applicable performance standards and other regulatory requirements under this Part or funding opportunity conditions in comparison to the performance of other new applicants or of existing grantees providing the same types of services. The Secretary also gives priority to new or existing Basic Center Program, Transitional Living Program (including Maternity Group Homes), and Street Outreach Program applicants whose total grant requests for services to runaway or otherwise homeless youth are less than $200,000 and whose project budgets, considering all funding sources, are smaller than $200,000. These amounts are subject to adjustment in funding opportunity announcements as necessary to reflect inflation.

7. Revise § 1351.13 to read as follows:

§ 1351.13 What are the Federal and non-Federal match requirements under a Runaway and Homeless Youth Program Grant?

The Federal share of the project represents 90 percent of the total project cost supported by the Federal Government. The remaining 10 percent represents the required project match cost by the grantee. This may be a cash or in-kind contribution.

8. Revise § 1351.15 to read as follows:

§ 1351.15 What costs are supportable under a Runaway and Homeless Youth Program grant?

Costs that can be supported include, but are not limited to, staff training and core services such as outreach, intake, case management, data collection, temporary shelter, transitional living arrangements, referral services, counseling services, and aftercare services. Costs for acquisition and renovation of existing structures may not normally exceed 15 percent of the grant award. HHS may waive this limitation upon written request under special circumstances based on demonstrated need. For grants that support research, evaluation, and service projects; a national communications system to assist runaway and homeless youth in communicating with service providers; and for technical assistance and training grants; costs that can be supported include those enumerated above as well as services such as data collection and analysis, telecommunications services, and preparation and publication of materials in support of the purposes of such grants.

9. Revise § 1351.16 to read as follows:

§ 1351.16 What costs are not allowable under a Runaway and Homeless Youth Program grant?

A Runaway and Homeless Youth Program grant does not cover the (a) capital costs of constructing new facilities, or (b) operating costs of existing community centers or other facilities that are used partially or incidentally for services to runaway or homeless youth clients, except to the extent justified by application of cost allocation methods accepted by HHS as reasonable and appropriate.

10. Revise § 1351.17 to read as follows:

§ 1351.17 How is application made for a Runaway and Homeless Youth Program grant?

HHS publishes periodically over the Internet funding opportunity announcements of grant funds available under the Act for each type of local services grant, and also may publish additional announcements for special projects. The funding opportunity announcements state the amount of funds available, program priorities for funding, and criteria for evaluating applications in awarding grants. The announcements also describe specific procedures for receipt and review of applications. An applicant should:

(a) Obtain a program announcement from the ACF Web site or from the ACYF Operations Center; and

(b) Submit a completed application either electronically to the Grants.gov Web site or to the ACYF Operations Center.

11. Revise § 1351.18 to read as follows:

§ 1351.18 What criteria has HHS established for deciding which Runaway and Homeless Youth Program grant applications to fund?

In reviewing applications for a Runaway and Homeless Youth Program grant, HHS takes into consideration a number of factors, including:

(a) Whether the grant application meets the particular priorities, requirements, standards, or evaluation criteria established in funding opportunity announcements;

(b) A need for Federal support based on the likely number of estimated runaway or otherwise homeless youth in the area in which the runaway and homeless youth project is or will be located exceeding the availability of existing services for such youth in that area;

(c) For runaway and homeless youth centers, whether there is a minimum residential capacity of four (4) and a maximum residential capacity of twenty (20) youth in a single structure (except where the applicant assures that the State where the center or locally controlled facility is located has a State or local law or regulation that requires a higher maximum to comply with licensure requirements for child and youth serving facilities), or within a single floor of a structure in the case of apartment buildings, with a number of staff sufficient to assure adequate supervision and treatment for the number of clients to be served;

(d) Plans for meeting the best interests of the youth involving, when possible, both the youth and the family. The plans also must include methods for assuring the youth's safe return home or to local government officials or law enforcement officials and indicate efforts to provide appropriate alternative living arrangements;

(e) Plans for the delivery of aftercare or counseling services to runaway or otherwise homeless youth and their families;

(f) Whether the estimated cost to HHS for the runaway and homeless youth project is reasonable considering the anticipated results;

(g) Whether the proposed personnel are well qualified and the applicant agency has adequate facilities and resources;

(h) Past performance on a RHY grant, including but not limited to program standards;

(i) Whether the proposed project design, if well executed, is capable of attaining program objectives;

(j) The consistency of the grant application with the provisions of the Act and these regulations; and

(k) Other factors as outlined in funding opportunity announcements.

12. Revise § 1351.19 to read as follows:

§ 1351.19 What additional information should an applicant or grantee have about other Federal requirements for a Runaway and Homeless Youth Program grant?

(a) A number of other rules and regulations apply to applicants and grantees. These include:

(1) 2 CFR Part 182—Government-wide Requirements for Drug Free Workplace;

(2) 2 CFR Part 376—Nonprocurement Debarment and Suspension;

(3) 45 CFR Part 16—Procedures of the Departmental Grant Appeals Board;

(4) 45 CFR Part 30—Claims Collection;

(5) 45 CFR Part 46—Protection of Human Subjects;

(6) 45 CFR Part 74—Uniform Administrative Requirements for Institutions of Higher Education, Hospitals, and Other Non-Profit Organizations, and Commercial Organizations;

(7) 45 CFR Part 80—Nondiscrimination Under Programs Receiving Federal Assistance Through the Department of Health and Human Services Effectuation of Title VI of the Civil Rights Act of 1964;

(8) 45 CFR Part 81—Practice and Procedure for Hearings Under part 80;

(9) 45 CFR Part 84—Nondiscrimination on the Basis of Handicap in Programs or Activities Receiving Federal Financial Assistance;

(10) 45 CFR Part 86—Nondiscrimination on the Basis of Sex in Education Programs or Activities receiving Federal Financial Assistance;

(11) 45 CFR Part 87—Equal Treatment for Faith Based Organizations;

(12) 45 CFR Part 91—Nondiscrimination on the Basis of Age in Programs or Activities Receiving Federal Financial Assistance;

(13) 45 CFR Part 92—Uniform Administrative Requirements for Grants and Cooperative Agreements to State, Local, and Tribal Governments; and

(14) 45 CFR Part 93—New Restrictions on Lobbying.

(b) Several program policies regarding confidentiality of information, treatment, conflict of interest and State protection apply to recipients of Runaway and Homeless Youth Program grants. These include:

(1) Confidential information. All information including lists of names, addresses, photographs, and records of evaluation of individuals served by a runaway and homeless youth project shall be confidential and shall not be disclosed or transferred to any individual or to any public or private agency without written consent of the youth and family unless release of information is compelled by a court or statutory mandate. In such cases, the grantee is required to make reasonable attempts to notify the victims affected by the disclosure and to take steps to protect the privacy and safety of the persons affected by the release. Youth served by a runaway and homeless youth project shall have the right to review their records; to correct a record or file a statement of disagreement; and to be apprised of the individuals who have reviewed their records. Procedures shall be established for the training of project staff in the protection of these rights and for the secure storage of records.

(2) Medical, psychiatric or psychological treatment. No youth shall be subject to medical, psychiatric or psychological treatment without the consent of the youth and family unless otherwise permitted by State law.

(3) Conflict of interest. Employees or individuals participating in a program or project under the Act shall not use their positions for a purpose that is, or gives the appearance of being, motivated by a desire for private gain for themselves or others, particularly those with whom they have family, business or other ties.

(4) State law protection. HHS policies regarding confidential information and experimentation and treatment shall not apply if HHS finds that State law is more protective of the rights of runaway or otherwise homeless youth.

(5) Non-discriminatory services and training. Service delivery and staff training must comprehensively address the individual strengths and needs of youth as well as be language appropriate, gender specific (interventions that are sensitive to the diverse experiences of male, female, and transgender youth), and culturally sensitive and respectful of the complex social identities of youth (i.e. race, ethnicity, nationality, religion/spirituality, gender identity/expression, sexual orientation, socioeconomic status, physical ability, language, beliefs, values, behavior patterns, or customs).

(c) Nothing in the Act or these regulations gives the Federal Government control over the staffing and personnel decisions regarding individuals hired by a runaway and homeless youth project receiving Federal funds.

13. Revise subpart C to read as follows:

Subpart C—Additional Requirements

Sec.
1351.20 What are the additional requirements that apply to all Runaway and Homeless Youth Program local services grants?
1351.21 What are the additional requirements that the Basic Center Program grantees must meet?
1351.22 What are the additional requirements that the Transitional Living Program and Maternity Group Home grantees must meet?
1351.23 What are the additional requirements that the Street Outreach Program grantees must meet?

§ 1351.20 What are the additional requirements that apply to all Runaway and Homeless Youth Program local services grants?

This section applies to the Basic Center Program, the Transitional Living Program, and the Street Outreach Program. To improve the administration of these Runaway and Homeless Youth Programs by increasing the capacity of runaway and homeless youth projects to deliver services, by improving their performance in delivering services, and by providing for the evaluation of performance:

(a) Grantees shall participate in technical assistance, monitoring, and short-term training as a condition of funding, as determined necessary by HHS, in such areas as: Aftercare services or counseling; background checks; core competencies of youth workers, core support services; crisis intervention techniques; cultural and linguistic diversity; development of coordinated networks of private nonprofit agencies and/or public agencies to provide services; ethics and staff safety; fiscal management; low cost community alternatives for runaway or otherwise homeless youth; positive youth development; program management; risk and protective factors related to youth homelessness; screening and assessment practices; shelter facility staff development; special populations (tribal youth; lesbian, gay, bisexual, and transgender youth; youth with disabilities; youth victims of trafficking, sexual exploitation or sexual abuse); trauma and the effects of trauma on youth; use of evidence-based and evidence-informed interventions; and youth and family counseling.

(b) Grantees shall coordinate their activities with the 24-hour National toll-free and Internet communication system, which links runaway and homeless youth projects and other service providers with runaway or otherwise homeless youth, as appropriate to the specific activities provided by the grantee.

(c) Grantees shall submit statistical reports profiling the clients served and providing management and performance information in accordance with guidance provided by HHS.

(d) Grantees shall perform outreach to locate runaway and homeless youth and to coordinate activities with other organizations serving the same or similar client populations.

(e) Grantees shall develop and implement a plan for addressing youth who have run away from foster care placement or correctional institutions, in accordance with Federal, State, or local laws that apply to these situations.

(f) Grantees shall take steps to ensure that youth who are under the legal jurisdiction of the juvenile justice or child welfare systems receive services from those systems until such time as they are released from the jurisdiction of those systems.

(g) Grantees shall develop and implement an aftercare plan, covering at least 6 months, to stay in contact with youth who leave the program in order to ensure their ongoing safety. A youth's individual aftercare plan shall outline what services were provided, including appropriate referrals for needed health care services, the youth's housing status, and the rate of participation and completion of the services in the plan at 3 months and at 6 months after exiting the program.

(h) Grantees shall develop and implement a plan for health care services referrals for youth during the service and aftercare periods.

(i) Grantees shall assist youth to stay connected with their schools or to obtain appropriate educational services. This includes coordination with McKinney-Vento school district liaisons, designated under the McKinney-Vento Homeless Assistance Act, to assure that runaway and homeless youth are provided information about the services available under that Act.

(j) Basic Center Program, Transitional Living Program, and Street Outreach grantees shall develop and document plans that address steps to be taken in case of a local or national situation that poses risk to the health and safety of staff and youth. Emergency preparedness plans should, at a minimum, include routine preventative maintenance of facilities as well as preparedness, response, and recovery efforts. The plan should contain strategies for addressing evacuation, security, food, medical supplies, and notification of youths' families, as appropriate. In the event of an evacuation due to specific facility issues, such as a fire, loss of utilities, or mandatory evacuation by the local authorities, an alternative location needs to be designated and included in the plan. Grantees must immediately provide notification to their project officer and grants officer when evacuation plans are executed.

(k) Grantees shall ensure that all shelters that they operate are licensed where that is required, and determine that any shelters to which they regularly refer clients have evidence of current licensure if licensure is applicable to shelters of that type. For grantee-operated facilities, failure to meet any applicable State or local legal requirements as a condition of operation may be grounds for grant termination.

(l) Grantees shall conduct complete background checks on all employees and volunteers. Grantees shall also conduct criminal and child abuse checks for all host homes.

(m) Grantees shall utilize and integrate into the operation of their projects the principles of positive youth development, including healthy messages, safe and structured places, adult role models, skill development, and opportunities to serve others.

(n) Grantees shall provide such other services and meet such additional requirements as HHS determines are necessary to carry out the purposes of the statute, as appropriate to the services and activities for which they are funded. These services and requirements are articulated in the funding opportunity announcements and other instructions issued by the Secretary or secretarial designees. This includes operational instructions and standards of execution determined by the Secretary or secretarial designees to be necessary to properly perform or document meeting the requirements applicable to particular programs or projects.

§ 1351.21 What are the additional requirements that the Basic Center Program grantees must meet?

(a) Grantees shall have an intake procedure that is available 24 hours a day and 7 days a week to all youth seeking services and temporary shelter that addresses and responds to immediate needs for crisis counseling, food, clothing, shelter, and health care services.

(b) Grantees shall provide, either directly or through arrangements, access to temporary shelter 24 hours a day and 7 days a week.

(c) Grantees shall provide case management, counseling and referral services that meet client needs and that encourage, when in the best interests of the youth particularly with regard to safety, the involvement of parents or legal guardians.

(d) Grantees shall provide additional core support services to clients both residentially and non-residentially as appropriate. The core services must include case planning, skill building, recreation and leisure activities, and aftercare.

(e) Grantees shall contact the parent(s), legal guardian or other relatives of each client within 72 hours of the youth entering the program to inform them that the youth is safe. The grantee should determine on a case-by-case basis if it is in the best interests of the youth to notify the parent(s) or legal guardian of the location of the youth until further information has been gathered to assure safety.

(f) Additional requirements included in the funding opportunity announcement (FOA).

§ 1351.22 What are the additional requirements that the Transitional Living Program and Maternity Group Home grantees must meet?

(a) Grantees shall provide transitional living arrangements and additional core services including case planning/management, counseling, skill building, consumer education, referral to needed social and health care services, and education, recreation and leisure activities, aftercare and, as appropriate to grantees providing maternity-related services, parenting skills, child care, and child nutrition.

(b) Additional requirements included in the funding opportunity announcement (FOA).

§ 1351.23 What are the additional requirements that the Street Outreach Program grantees must meet?

(a) Grantees shall provide services that are designed to assist clients in leaving the streets, making healthy choices, and building trusting relationships in areas where targeted youth congregate.

(b) Grantees shall directly or by referral provide treatment, counseling, prevention, and education services to clients as well as referral for emergency shelter.

(c) Additional requirements included in the funding opportunity announcement (FOA).

14. Add Subpart D to read as follows:

Subpart D—What Are the Runaway and Homeless Youth Program-Specific Standards?

Sec.
1351.30 What performance standards must Basic Center grantees meet?
1351.31 What performance standards must Transitional Living Programs (TLP), including Maternity Group Homes (MGH), meet?
1351.32 What performance standards must Street Outreach Programs (SOP) meet?
1351.33 How and when will performance standards for the Runaway and Homeless Youth Program be revised?
1351.34 When are program-specific requirements effective?

§ 1351.30 What performance standards must Basic Center grantees meet?

What are the minimum performance standards that Basic Center grantees must achieve to receive and maintain funding?

(a) Grantees must contact the parent(s), legal guardian or other relatives of each client within 72 hours of the youth entering the program to inform them that the youth is safe. The grantee should determine on a case-by-case basis if it is in the best interests of the youth to notify the parent(s) or legal guardian of the location of the youth until further information has been gathered to assure safety.

(b) Grantees shall maintain at 90 percent or higher the proportion of youth transitioning to safe and appropriate settings when exiting Basic Center Program services.

(c) Grantees shall ensure that youth receive counseling services that match the individual needs of each participant. Data shall be reported by each grantee on the type of counseling each youth received (individual, family and/or group counseling), the participation rate based on a youth's service plan or treatment plan, and the completion rate based on a youth's service plan or treatment plan, where applicable.

(d) Grantees that choose to provide street-based services, home-based services, drug and/or alcohol abuse education and prevention services, and/or testing for sexually transmitted diseases (at the request of the youth) shall ensure youth receive the appropriate services. Data shall be reported on the completion rate for each service provided based on the youth's service or treatment plan.

§ 1351.31 What performance standards must Transitional Living Programs (TLP), including Maternity Group Homes (MGH), meet?

What are the minimum performance standards that TLP and MGH grantees must achieve to receive and maintain funding?

(a) Grantees shall maintain at 90 percent or higher the proportion of youth transitioning to safe and appropriate settings when exiting Transitional Living Program services.

(b) Grantees shall maintain at 45 percent or higher the proportion of youth who are engaged in community service and service learning activities while in the program.

(c) Grantees shall ensure youth are engaged in educational advancement, job attainment skills or work activities while in the program.

(d) Grantees shall ensure and report that youth receive health care services as determined within their health care referral plan.

(e) MGH grantees shall ensure and report that youth receive consistent pre-natal care, well-baby exams, and immunizations for the infant while in the program.

§ 1351.32 What performance standards must Street Outreach Programs (SOP) meet?

What are the minimum performance standards that SOP grantees must achieve to receive and maintain funding? Grantees shall contact youth who are or who are at risk of homeless or runaway status on the streets, in numbers that are reasonably attainable for the staff size of the project. Grantees with larger staffs will be expected to contact larger numbers of youth in approximate proportion, as determined by HHS, to the larger number of staff available to provide this service.

§ 1351.33 How and when will performance standards for the Runaway and Homeless Youth Program be revised?

(a) Current and future performance standards for grantees will be related to one or more of the following four core outcomes:

(1) Social and Emotional Well-being;

(2) Permanent Connections;

(3) Education or Employment; and/or

(4) Stable Housing.

(b) The Secretary may, based upon available program data, add, amend, or suspend benchmark levels for current and future performance standards for grantees. The specific benchmark levels in §§ 1351.30, 1351.31, and 1351.32 may be amended per this section.

(c) The Secretary may, based upon available program data, add, amend or suspend performance standards for grantees that relate to one or more of the four core outcomes in paragraph (a) of this section.

(d) Notification to grantees shall be given in advance of any revision to either program standards or benchmark levels through a public notification mechanism such as a funding opportunity announcement, policy guidance or other appropriate mechanism.

§ 1351.34 When are program-specific requirements effective?

Grantees shall meet program specific requirements as applicable upon the effective date of those requirements, or starting at the beginning of the next budget period for the grant, whichever comes later.

[FR Doc. 2014-08178 Filed 4-10-14; 11:15 am]

BILLING CODE 4184-01-P